NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold seventeen meetings, by videoconference, of the Humanities Panel, a federal advisory committee, during November 2020. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. DATE: November 4, 2020

This video meeting will discuss applications on the topics of History and Studies of the Americas, for the Kluge Fellowships, submitted to the Division of Research Programs.

2. DATE: November 5, 2020

This video meeting will discuss applications on the topics of History and Studies of Africa, Asia, and Europe, for the Kluge Fellowships, submitted to the Division of Research Programs.

3. DATE: November 5, 2020

This video meeting will discuss applications on the topic of U.S. History (Social), for the Humanities Collections and Reference Resources grant program, submitted to the Division of Preservation and Access.

4. DATE: November 6, 2020

This video meeting will discuss applications on the topics of Literature, Communication, and the Arts, for the Kluge Fellowships, submitted to the Division of Research Programs.

5. DATE: November 6, 2020

This video meeting will discuss applications on the topic of Western History, for the Public Humanities Projects: Exhibitions (Planning) grant program, submitted to the Division of Public Programs.

6. DATE: November 9, 2020

This video meeting will discuss applications on the topics of Arts and Culture, for the Public Humanities Projects: Exhibitions (Planning) grant program, submitted to the Division of Public Programs.

7. DATE: November 10, 2020

This video meeting will discuss applications on the topic of U.S. History, for the Public Humanities Projects: Exhibitions (Planning) grant program, submitted to the Division of Public Programs.

8. DATE: November 10, 2020

This video meeting will discuss applications on the topic of Indigenous Studies, for the Humanities Collections and Reference Resources grant program, submitted to the Division of Preservation and Access.

9. DATE: November 12, 2020

This video meeting will discuss applications on the topic of Local History, for the Public Humanities Projects: Exhibitions (Planning) grant program, submitted to the Division of Public Programs.

10. DATE: November 12, 2020

This video meeting will discuss applications on the topic of Ethnography, for the Archaeological and Ethnographic Field Research grant program, submitted to the Division of Research Programs.

11. DATE: November 13, 2020

This video meeting will discuss applications on the topic of New World Archaeology, for the Archaeological and Ethnographic Field Research grant program, submitted to the Division of Research Programs.

12. DATE: November 13, 2020

This video meeting will discuss applications on the topic of U.S. History, for the Public Humanities Projects: Exhibitions (Planning) grant program, submitted to the Division of Public Programs.

13. DATE: November 13, 2020

This video meeting will discuss applications on the topics of History of Science and Medicine, for the Humanities Collections and Reference Resources grant program, submitted to the Division of Preservation and Access.

14. DATE: November 16, 2020

This video meeting will discuss applications on the topic of American Studies, for the Public Humanities Projects: Exhibitions (Planning) grant program, submitted to the Division of Public Programs.

15. DATE: November 17, 2020

This video meeting will discuss applications on the topic of Old World Archaeology, for the Archaeological and Ethnographic Field Research grant program, submitted to the Division of Research Programs.

16. DATE: November 17, 2020

This video meeting will discuss applications on the topic of U.S. History (Military and Political), for the Humanities Collections and Reference Resources grant program, submitted to the Division of Preservation and Access.

17. DATE: November 24, 2020

This video meeting will discuss applications on the topic of World Studies (Modern Era), for the Humanities Collections and Reference Resources grant program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: October 8, 2020.
Caitlin Cater,
Attorney-Advisor, National Endowment for the Humanities.

[FR Doc. 2020-22657 Filed 10-13-20; 8:45 am]

BILLING CODE 7536-01-P